DEPARTMENT OF JUSTICE

Office of Justice Programs

[OJP (OJP) Docket No. 1800]

Draft Programmatic Environmental Assessment for Grant Funding Programs

AGENCY: Office of Justice Programs.

ACTION: Notice of availability of a draft programmatic environmental assessment.

SUMMARY: In accordance with the National Environmental Policy Act (NEPA), the Department of Justice (DOJ) Office of Justice Programs (OJP) has completed a Draft Programmatic Environmental Assessment (PEA). The OJP provides federal leadership, grants, training, technical assistance and other resources to improve the nation's capacity to prevent and reduce crime, assist victims and uphold the rule of law by strengthening the criminal and juvenile justice systems. The PEA evaluates the potential environmental impacts of implementing OJP programs that provide funding to applicants in support of OJP's mission. NEPA requires that federal agencies consider the effects of a proposed action and any reasonable alternatives on the human environment. This Draft PEA evaluates the impacts that would result from the implementation of the Proposed Action as compared to the No Action alternative. OJP is accepting comments on this Draft PEA as detailed below.

DATES: Comments must be submitted on or before October 19, 2023.

ADDRESSES: You may view an electronic version of the Draft PEA at https://www.ojp.gov/sites/g/files/xyckuh241/files/media/document/ojppea.pdf, or contact OJP (contact information below) to request a hardcopy. Comments must be in writing and may be submitted via email (preferred) or mail to the addresses below.

FOR FURTHER INFORMATION CONTACT: Emily Gallas, Office of Justice Programs, 810 7th St. NW, Washington, DC 20531; (202) 307-0790; emily.gallas@usdoj.gov, (Please reference “Draft PEA, Docket 1800” in the subject line.)

SUPPLEMENTARY INFORMATION:

I. Background

The National Institute of Justice (NIJ), a component of OJP, prepared a PEA that was issued in 2010 to evaluate the impacts of NIJ grant programs. This existing 2010 NIJ PEA has since been adopted by the Bureau of Justice Assistance, another component of OJP. Council on Environmental Quality guidance recommends that agencies re-examine existing NEPA analyses for long-term programs every five years. Consistent with this recommendation, OJP has reviewed its existing PEA and has determined that a new analysis is warranted based on the factors found in 40 CFR 1502.19. OJP has prepared an updated PEA that is intended to replace the 2010 NIJ PEA and will cover all of OJP's funding programs. OJP publishes this notice pursuant to the National Environmental Policy Act of 1969 (NEPA), 42 U.S.C. 4321, et seq.

II. Proposed Action Description

The Proposed Action considered under this Draft PEA is for OJP to continue to provide funding to applicants to support its mission. OJP evaluates and funds approximately 7,000 projects per year nationwide. All activities considered under the Draft PEA support criminal justice activities and are funded under one of OJP's grant programs or other funding vehicles such as interagency agreements. The Draft PEA provides analysis of the following activities:

• Construction: Interior or exterior construction activities that involve minor renovation, new construction, or expansion of buildings and/or building systems.

• Training: Indoor classroom, laboratory, and computer training activities in support of education or attendance at conferences, workshops, and seminars at existing facilities. Firearms training activities at existing, established outdoor and indoor firing ranges. Activities may include funding individuals to attend a training or funding a training event/activity directly.

• Routine Lab Work: Indoor laboratory work using known or accepted methodology and industry standard equipment to achieve known outcomes.

• Body Decomposition Research: Research on body decomposition at forensic anthropological centers.

• Standards Development Testing and Compliance Testing for Protective Equipment: Indoor and outdoor laboratory testing activities completed in support of developing a standard or for testing a product for inclusion on the National Institute of Justice Compliant Products List.

The purpose of the Proposed Action is to allow OJP to better meet the needs of state, local, and tribal criminal justice professionals and local communities. OJP supports forensic science programs dedicated to research, development, testing, and evaluation in conjunction with capacity building and technical assistance. OJP provides funding for these activities to combat crime and promote justice across the country.

Emily Gallas,
Assistant General Counsel, OJP Office of the General Counsel.

[FR Doc. 2023-20177 Filed 9-18-23; 8:45 am]

BILLING CODE 4410-18-P